DEPARTMENT OF THE INTERIOR

Bureau of Land Management

[OR-014-01-1120-JG, HAG-01-0057]

Seasonal Closure of the CCC Road; (Numbered 41-14E-11) Klamath County, OR

AGENCY: Bureau of Land Management, Interior.

ACTION: Notice of the seasonal closure of the CCC Road at the Barnes Valley creek crossing in Klamath County, Oregon.

SUMMARY: Notice is hereby given that during the winter and spring high water periods, the CCC road (Numbered 41-14E-11) on the east side of Gerber Reservoir in Klamath County, Oregon will be closed to through traffic at the CCC road's junction with the north and south rims of the Barnes Valley Creek canyon. The road will be closed by the Authorized Officer when water levels in Barnes Valley Creek make the CCC road's low water crossing at Barnes Valley Creek unsafe to use by the public. Gates have been installed at the CCC road junction with the north and south rims of the Barnes Valley Creek canyon. The closure is made under the authority of 43 CFR 8364.1.

The following persons, operating within the scope of their official duties, are exempt from the provisions of this closure order: Bureau employees; state, local, and Federal law enforcement and fire protection personnel. Access by additional parties may be allowed, but must be approved in advance in writing by the Authorized Officer.

Any person who fails to comply with the provisions of this closure order may be subject to the penalties provided in 43 CFR 8360.0-7, which include a fine not to exceed $1,000 and/or imprisonment not to exceed 12 months, as well as the penalties provided under Oregon State law.

The road temporarily closed to through traffic under this order will be posted with signs at points of public road access.

The purpose of this emergency temporary closure is to protect persons from potential harm due to high water flows and flood conditions in Barnes Valley Creek. The road will be opened by the Authorized Officer when water levels in Barnes Valley Creek make the CCC road safe to use by the public.

DATES: This closure is effective from December 13, 2000 and will remain in effect until rescinded by the Authorized Officer.

ADDRESSES: Copies of the closure order and maps showing the location of the closed road are available from the Klamath Falls Resource Area Office, 2795 Anderson Avenue, Building 25, Klamath Falls, Oregon 97603.

FOR FURTHER INFORMATION CONTACT: Teresa A. Raml, Field Manager, Klamath Falls Resource Area at (541) 883-6916.

Dated: December 13, 2000.
Teresa A. Raml,
Field Manager, Klamath Falls Resource Area.

[FR Doc. 00-33420 Filed 12-29-00; 8:45 am]

BILLING CODE 4310-33-P